DEPARTMENT OF COMMERCE

Foreign-Trade Zones Board

[B-56-2019]

Foreign-Trade Zone (FTZ) 281—Miami, Florida; Authorization of Production Activity; South Florida Lumber Company; (Steel Frames); Medley, Florida

On September 9, 2019, Miami-Dade County, grantee of FTZ 281, submitted a notification of proposed production activity to the FTZ Board on behalf of South Florida Lumber Company, within FTZ 281, in Medley, Florida.

The notification was processed in accordance with the regulations of the FTZ Board (15 CFR part 400), including notice in the Federal Register inviting public comment (84 FR 49718—49719, September 23, 2019). On January 7, 2020, the applicant was notified of the FTZ Board's decision that no further review of the activity is warranted at this time. The production activity described in the notification was authorized, subject to the FTZ Act and the FTZ Board's regulations, including Section 400.14.

Dated: January 7, 2020.
Andrew McGilvray,
Executive Secretary.

[FR Doc. 2020-00384 Filed 1-13-20; 8:45 am]

BILLING CODE 3510-DS-P